FEDERAL MARITIME COMMISSION

Ocean Transportation Intermediary License; Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
002723NF | Air-Oceanic Services, Inc., 2139 NW 79th Avenue Miami, FL 33126 | October 7, 2007.
003672F | Astral Freight Services, Inc., 1418 NW 82nd Avenue Doral, FL 33126-1508 | November 22, 2007.
017871N | D & D Worldwide, Inc., 96 Linwood Plaza,#391 Fort Lee, NJ 07024 | January 12, 2008.
004569F | D. Kratt International, Inc., dba Transcontinental Exports, Ltd. 2500 West Higgins Road Suite 140 Hoffman Estates, IL 60195 | January 5, 2008.
003134F | Enterprise Forwarders, Inc., 2350 NW 93rd Avenue Miami, FL 33172 | January 2, 2008.
016514F | Rosemark International LLC, 3491 Long Drive Minden, NV 89432 | November 28, 2007.
018609N | Great World Int'l Services, Inc., 236 West Portal Ave., #772 San Francisco, CA 94127 | February 11, 2008.

Sandra L. Kusumoto,
Director, Bureau of Certification and Licensing.

[FR Doc. E8-4919 Filed 3-11-08; 8:45 am]

BILLING CODE 6730-01-P